DEPARTMENT OF THE INTERIOR

Bureau of Land Management

[LLNVS00560.L58530000.ES0000,241A; N-83501; 13-08807; MO# 4500050498; TAS: 14X5232]

Notice of Realty Action: Classification for Lease and Subsequent Conveyance for Recreation and Public Purposes of Public Lands (N-83501) for a High School in Sandy Valley, Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 30 acres of public land in Sandy Valley, Clark County, Nevada. The Clark County School District proposes to use the land for a high school in the Sandy Valley area.

DATES: Interested parties may submit written comments regarding the proposed classification of the land, or lease and/or subsequent conveyance of the land, until August 19, 2013.

ADDRESSES: Send written comments to the BLM Field Manager, Las Vegas Field Office, 4701 N. Torrey Pines Drive, Las Vegas, Nevada 89130.

FOR FURTHER INFORMATION CONTACT: Jill Pickren, 702-515-5194, or jpickren@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel of public land is located at E. Placer Drive and N. Hopi Street and is legally described as:

Mount Diablo Meridian

T. 24 S., R. 57 E.,

Sec. 32, S½NW¼SW¼ and SW¼NE¼SW¼.

The area described contains 30 acres, more or less, in Clark County.

In accordance with the R&PP Act, the Clark County School District has filed an application to develop the above described land for a high school in the Sandy Valley area. The proposed high school will be located next to an existing elementary school and middle school. Related facilities include classrooms, gymnasium, football field, baseball field, tennis courts, parking lot, and related appurtenances. At present, high school students are bused approximately 40 miles to Liberty High School in Henderson, Nevada. Additional detailed information pertaining to this application, plan of development, and site plan is in case file N-83501, which is located in the BLM Las Vegas Field Office at the above address. Environmental documents associated with this proposed action are available for review at the BLM Las Vegas Field Office, and on the web at: www.blm.gov/nv/st/en/fo/lvfo/blm_information/nepa.html.

The Clark County School District is a political subdivision of the State of Nevada and is a qualified applicant under the R&PP Act.

The lease and subsequent conveyance of the public land shall be subject to valid existing rights. Subject to limitations prescribed by law and regulations, prior to patent issuance, a holder of any right-of-way within the lease area may be given the opportunity to amend the right-of-way for conversion to a new term, including perpetuity, if applicable.

The land is not required for any Federal purpose. The lease and subsequent conveyance is consistent with the BLM Las Vegas Resource Management Plan dated October 5, 1998, and would be in the public interest. The Clark County School District has not applied for more than the 640-acre limitation for public purpose uses in a year and has submitted a statement in compliance with the regulations at 43 CFR 2741.4(b).

The lease and subsequent conveyance, if and when issued, will be subject to valid entry rights and the provisions of the R&PP Act and applicable regulations of the Secretary of the Interior, and will contain the following terms, conditions, and reservations to the United States:

1. A right-of-way thereon for ditches or canals constructed by the authority of the United States, Reservation in Patents Right-of-Way for Ditches or Canals Act of August 30, 1890 (43 U.S.C. 945);

2. All minerals shall be reserved to the United States, together with the right to prospect for, mine and remove such deposits from the same under applicable law and such regulations as the Secretary of the Interior may prescribe;

3. Right-of-way N-10714 for communication line purposes granted to Nevada Bell, its successors or assigns, pursuant to the Act of March 4, 1911, (43 U.S.C. 961);

5. Right-of-way N-06278 for transmission line purposes granted to Valley Electric, its successors or assigns, pursuant to the Federal Land Policy and Management Act of October 21, 1976 (43 U.S.C. 1761); and

6. An appropriate indemnification clause protecting the United States from claims arising out of the lessee's/patentee's use, occupancy, or operations on the leased/patented lands. It will also contain any other terms and conditions deemed necessary and appropriate by the Authorized Officer.

Upon publication of this notice in the Federal Register, the land described above will be segregated from all other forms of appropriation under the public land laws, including the general mining laws, except for lease and/or subsequent conveyance under the R&PP Act, leasing under the mineral leasing laws and disposals under the mineral material disposal laws.

Interested parties may submit written comments on the suitability of the land for a high school in the Sandy Valley area. Comments on the classification are restricted to whether the land is physically suited for the proposal, whether the use will maximize the future use or uses of the land, whether the use is consistent with local planning and zoning, or if the use is consistent with State and Federal programs. Interested parties may also submit written comments regarding the specific use proposed in the application and plan of development, and whether the BLM followed proper administrative procedures in reaching the decision to lease and/or convey under the R&PP Act.

Before including your address, phone number, email address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed. Any adverse comments will be reviewed by the BLM Nevada State Director, who may sustain, vacate, or modify this realty action. In the absence of any adverse comments, the decision will become effective on September 3, 2013. The lands will not be available for lease and subsequent conveyance until after the decision becomes effective.

Authority: 43 CFR 2741.5.

Vanessa L. Hice,
Assistant Field Manager, Division of Lands.

[FR Doc. 2013-16002 Filed 7-2-13; 8:45 am]

BILLING CODE 4310-HC-P